DEPARTMENT OF HOMELAND SECURITY

Coast Guard

[Docket No. USCG-2009-0760]

Merchant Marine Personnel Advisory Committee; Meeting

AGENCY: Coast Guard, DHS.

ACTION: Notice of meeting.

SUMMARY: The Merchant Marine Personnel Advisory Committee (MERPAC) will meet in Martinsburg, WV, to discuss various issues relating to the training and fitness of merchant marine personnel. This meeting is open to the public.

DATES: MERPAC will meet on Tuesday, September 22, 2009, from 8 a.m. until 4 p.m., and Wednesday, September 23, 2009, from 8 a.m. until 3 p.m. This meeting may close early if all business is finished. Written material and requests to make oral presentations should reach the Coast Guard on or before September 9, 2009. Requests to have a copy of your material distributed to each member of the committee should reach the Coast Guard on or before September 9, 2009.

ADDRESSES: The Committee will meet in Room #335, the Dales-Larsen Training Room at the U. S. Coast Guard National Maritime Center, 100 Forbes Drive, Martinsburg, WV. Send written material and requests to make oral presentations to Mr. Mark Gould, Assistant to the Designated Federal Officer (ADFO) of MERPAC, at COMMANDANT (CG-5221), ATTN MERPAC, U.S. COAST GUARD, 2100 2nd ST., SW., STOP 7126, WASHINGTON, DC 20593-7126. This notice may be viewed in our online docket, USCG-2009-0760, at http://www.regulations.gov.

FOR FURTHER INFORMATION CONTACT: Mr. Mark Gould, Assistant to the DFO of MERPAC, at 202-372-1409.

SUPPLEMENTARY INFORMATION: Notice of this meeting is given under the Federal Advisory Committee Act, 5 U.S.C. App. (Pub. L. 92-463). Please be advised that in order to gain admittance to the National Maritime Center building, you must provide identification in the form of a government-issued picture identification card.

Agenda of Meeting

The agenda for the September 22, 2009, Committee meeting is as follows:

(1) The full committee will meet to discuss the objectives for the meeting.

(2) Working groups addressing the following task statements may meet to deliberate—

(a) Task Statement 30, concerning Utilizing Military Sea Service for Standards of Training, Certification and Watchkeeping (STCW) Certifications;

(b) Task Statement 58, concerning Stakeholder Communications During the Mariner Licensing and Documentation (MLD) Program Restructuring and Centralization;

(c) Task Statement 64, concerning Recommendations on Areas in the STCW Convention and the STCW Code Identified for Comprehensive Review; and

(d) Task Statement 71, concerning Review of Coast Guard/International Maritime Organization (IMO) Operational Level Examination Questions for Both Deck and Engine Licenses.

(3) New working groups may be formed to address issues proposed by the Coast Guard, MERPAC members, or the public.

(4) At the end of the day, the working groups will make a report to the full committee on what has been accomplished in their meetings. No action will be taken on these reports on this date.

The agenda for the September 23, 2009, Committee meeting is as follows:

(1) Introduction;

(2) Reports from working groups working on the following;

(a) Task Statement 30, concerning Utilizing Military Sea Service for STCW Certification;

(b) Task Statement 58, concerning Stakeholder Communications During MLD Program Restructuring and Centralization;

(c) Addendum to Task Statement 64, concerning Recommendations on Areas in the STCW Convention and the STCW Code Identified for Comprehensive Review; and

(d) Task Statement 71, concerning Review of Coast Guard/IMO Operational Level Examination Questions for Both Deck and Engine Licenses.

(3) Other items which may be discussed:

(a) Standing Committee-Prevention through People.

(b) Briefings concerning on-going projects or topics of interest to MERPAC.

(c) Other items brought up for discussion by the Committee or the public.

(4) At the end of the day, the working groups will make a report and, if applicable, recommendations for the full committee to consider for presentation to the Coast Guard. Official action on these recommendations may be taken on this date.

Procedural

This meeting will be open to the public. However, please be advised that in order to gain admittance to the National Maritime Center building, you must provide identification in the form of a government-issued picture identification card. Please note that the meeting may close early if all business is finished. At the Chair's discretion, members of the public may make oral presentations during the meeting. If you would like to make an oral presentation at a meeting, please notify the Assistant to the DFO no later than September 9, 2009. Written material for distribution at a meeting should reach the Coast Guard no later than September 9, 2009. If you would like a copy of your material distributed to each member of the committee in advance of a meeting, please submit 25 copies to the Assistant to the DFO no later than September 9, 2009.

Information on Services for Individuals With Disabilities

For information on facilities or services for individuals with disabilities or to request special assistance at the meeting, contact the Assistant to the DFO as soon as possible.

Dated: August 24, 2009.
J.G. Lantz,
Director of Commercial Regulations and Standards.

[FR Doc. E9-21021 Filed 8-31-09; 8:45 am]

BILLING CODE 4910-15-P